DEPARTMENT OF AGRICULTURE

Forest Service

Eastern Washington Cascades Provincial Advisory Committee and the Yakima Provincial Advisory Committee

AGENCY: Forest Service, USDA.

ACTION: Notice of Meeting.

SUMMARY: The Eastern Washington Cascades Provincial Advisory Committee and the Yakima Provincial Advisory Committee will meet on February 3, 2010 at the Okanogan-Wenatchee National Forest Headquarters office, 215 Melody Lane, Wenatchee, WA. During this meeting information will be shared about Holden Mine clean-up operations, Stehekin River Corridor Implementation Plan/Environmental Impact Statement, and Bureau of Land Management Resource Management Plan update. All Eastern Washington Cascades and Yakima Province Advisory Committee meetings are open to the public.

FOR FURTHER INFORMATION CONTACT: Direct questions regarding this meeting to Becki Heath, Designated Federal Official, USDA, Okanogan-Wenatchee National Forest, 215 Melody Lane, Wenatchee, Washington 98801, phone 509-664-9200.

Dated: January 6, 2010.
Rebecca Lockett Heath,
Designated Federal Official, Okanogan-Wenatchee National Forest.

[FR Doc. 2010-513 Filed 1-12-10; 8:45 am]

BILLING CODE 3410-11-P